DEPARTMENT OF TRANSPORTATION

Federal Aviation Administration

Eighth Meeting, Special Committee 215 Aeronautical Mobile Satellite (Route) Services Next Generation Satellite Services and Equipment

AGENCY: Federal Aviation Administration (FAA), DOT.

ACTION: Notice of RTCA Special Committee 215, Aeronautical Mobile Satellite (Route) Services, Next Generation Satellite Services and Equipment.

SUMMARY: The FAA is issuing this notice to advise the public of a third meeting of RTCA Special Committee 215, Aeronautical Mobile Satellite (Route) Services, Next Generation Satellite Services and Equipment.

DATES: The meeting will be held June 25-26, 2008, 9 a.m.

ADDRESSES: The meeting will be held at RTCA, Inc., 1828 L Street, NW., Suite 805 Washington, DC 20036.

FOR FURTHER INFORMATION CONTACT: RTCA Secretariat, 1828 L Street, NW., Suite 805, Washington, DC, 20036; telephone (202) 833-9339; fax (202) 833-9434; Web site http://www.rtca.org for directions.

Note: It is expected that the Eighth Plenary will approve DO-262 Revision A for final submission to the Pro grain Management Committee (PMC). Dress is Business Casual.

SUPPLEMENTARY INFORMATION: Pursuant to section 10(a) (2) of the Federal Advisory Committee Act (Pub. L. 92-463, 5 U.S.C., Appendix 2), notice is hereby given for a Special Committee 215 meeting. The agenda will include:

• June 25, 2008:

• Opening Plenary Session (Welcome, Introductions, and Administrative Remarks);

• Review and Approval of Agenda for Eighth Plenary;

• Review and Approval of Seventh Meeting Summary (215-026; RTCA Paper No. 1 16-08/SC215-020);

• DO-262A:

• FRAC: Resolution of Comments;

• Final Plenary Approval of Agenda for Eighth Plenary;

• Review of PMC Approval Process and Next Steps;

• Review of Draft Antenna TSO (K. Blomgren);

• DO-270 Normative Appendix:

• Report from Drafting Group;

• Subnetwork Operational Approval Process;

• Review and Discussion of FAA Advisory Circular (D. Robinson);

• Closing Plenary Session (Any Other Business, Review of Next Plenary Dates, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on May 15, 2008.
Robert L. Bostiga,
RTCA Advisory Committee (Acting).

[FR Doc. E8-11823 Filed 5-28-08; 8:45 am]

BILLING CODE 4910-13-M